DEPARTMENT OF HEALTH AND HUMAN SERVICES

Centers for Disease Control and Prevention

[30Day-05-04JU]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5974 or send an e-mail to omb@cdc.gov. Send written comments to CDC Desk Officer, Human Resources and Housing Branch, New Executive Office Building, Room 10235, Washington, DC 20503 or by fax to (202) 395-6974. Written comments should be received within 30 days of this notice.

Proposed Project

Factors Impacting Effective Removal of Arsenic by Household Water Purification Systems—New—National Center for Environmental Health (NCEH), Centers for Disease Control and Prevention (CDC).

Background and Brief Description

Epidemiologic evidence strongly links ingestion of water containing inorganic arsenic with an increase in bladder cancer and other cancers. In Maine, approximately 10% of private domestic wells have arsenic concentrations greater than Maine's health standard for water of 10 μg/L. In wells with high arsenic concentrations, ingestion of water can be the dominant source of arsenic exposure. The preferred method for treating domestic well water containing elevated levels of arsenic is point-of-use water-treatment devices.

The purpose of the proposed study is to evaluate how the efficacy of water-treatment devices is affected by user behaviors such as maintenance and selection of appropriate technologies and by variations in water chemistry. The requested three year clearance for this study will focus on a total of 100 households. Approximately 200 households will be recruited and screened to ascertain the 100 eligible households. Recruitment is limited to areas of Maine that have high concentrations of arsenic in groundwater.

The results will demonstrate how arsenic removal systems are working in the real world. The data will give insight into how homeowners are collecting, interpreting and utilizing information on water treatment in order to select an arsenic-removal system. The data will show how well the chosen systems are removing arsenic, and how well they are being maintained. The results will thus identify risk factors that contribute to a failing treatment system.

The study will have a cross-sectional component and a temporal component. For the cross-sectional component, total arsenic, inorganic arsenic species, and selected geochemical constituents will be quantified by the influent and effluent (flowing in and flowing out) of filtration devices treating these 100 domestic well-water supplies. The study team will administer questionnaires to each participating household to collect data on the type of treatment unit used, routine operation parameters, and suggested and actual maintenance schedules. For the temporal component of the study, the study team will test the influent and effluent of the treatment units of 30 participating households for total arsenic one time per year. The percentage of arsenic removed by the filter will be compared to the study criterion selected to indicate that a filter is failing. If the arsenic removal level indicates that a treatment unit meets the criterion for failure, treatment unit influent and effluent water will be analyzed for inorganic arsenic species and geochemical constituents to determine whether the chemistry of the water has changed sufficiently to explain the failure.

A follow-up questionnaire will be administered biannually and at the time of a system failure to determine when the unit was last maintained and if operation and maintenance have changed. CDC/NCEH will request a 3-year clearance. There is no cost to participants other than their time. The total annual burden hours are 56.

Estimate of Annualized Burden Table
Respondents | Number of respondents | Number of responses/ respondent | Avg. burden response (in hrs.) | Total burden hours
Initial recruiting postcard completion | 67 | 1 | 5/60 | 6
Follow-up telephone call | 34 | 1 | 10/60 | 6
Initial interview | 34 | 1 | 30/60 | 17
Biannual follow-up interview | 30 | 2 | 25/60 | 25
System failure follow-up interview | 4 | 1 | 25/60 | 2
Total |  |  |  | 56

Dated: May 6, 2005.
Joan F. Karr,
Acting Reports Clearance Officer, Centers for Disease Control and Prevention.

[FR Doc. 05-9562 Filed 5-12-05; 8:45 am]

BILLING CODE 4163-18-P